DEPARTMENT OF JUSTICE

Antitrust Division

Notice Pursuant to the National Cooperative Research and Production Act of 1993—Medical Technology Enterprise Consortium

Notice is hereby given that, on July 15, 2022, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, 1Focus LLC, Clearwater, FL; 4M Biotech, Ltd., Victoria, CANADA; Action Medical Technologies LLC, Conshohocken, PA; Advanced Biomimetic Sensors, Inc., Bethesda, MD; Aspen Stem Cell Institute LLC, Basalt, CO; A-Tech LLC dba BlueHalo Labs, Albuquerque, NM; Biomeme, Inc., Philadelphia, PA; BiotechPharma, Corp., Severna Park, MD; Bodies Done Right, Mayfield Village, OH; Cellphire, Inc. dba Cellphire Therapeutics, Inc., Rockville, MD; Collaborative Effort, Inc. dba RAIN Incubator, Tacoma, WA; Cornell University, Ithaca, NY; DeltaStrac LLC, New Windsor, MD; Eagle Global Scientific LLC, San Antonio, TX; Elephant Ventures LLC, New York, NY; Gateway Biotechnology, Inc., St. Louis, MO; HealthTech Connex, Surrey, CAN; Hememics Biotechnologies, Inc., Gaithersburg, MD; Human Systems Integration, Inc., East Walpole, MA; IDION, Inc., Darien, CT; Independent Platform LLC, Salem, OR; International AIDS Vaccine Initiative, New York, NY; Laulima Government Solutions, Orlando, FL; Link to Learn, Denver, CO; Mainstream Engineering Corp., Rockledge, FL; MDB, Inc., Washington, DC; MedCu Technologies Ltd., Herzliya, ISR; Nanobionic Technologies Limited, Nicosia, CYP; Neunos ZRt, Szeged, HUN; Neuro11 Technologies, Inc., Cambridge, MA; NeuroStat Analytical Solutions, Great Falls, VA; Neursantys, Inc., Chicago, IL; OARK ApS, Hammel, DNK; Omnica Corp., Irvine, CA; Oregon Biomedical Engineering Institute, Inc., Wilsonville, OR; Palantir USG, Inc., Palo Alto, CA; PathoGene, Inc., Monrovia, CA; Pixel and Timber LLC, Cincinnati, OH; Polaris Sensor Technologies, Inc., Huntsville, AL; Powerbuilding Holdings Corp., Staten Island, NY; Proxima Clinical Research, Houston, TX; Puerto Rico Science, Technology and Research Trust, San Juan, PRI; Qidni Labs, Inc., Buffalo, NY; Resonantia Diagnostics, New York, NY; Resusitech, Inc., Menlo Park, CA; Rx Bandz, Austin, TX; Senseye, Inc., Austin, TX; Shock Therapeutics Biotechnologies, Inc., Baltimore, MD; Siemens Medical Solutions USA, Inc., Princeton, NJ; Singularity Scitech LLC, Bronxville, NY; SmartHealth Catalyzer, Inc., Riverwoods, IL; Social Science Innovations Corp., New York, NY; Sonogen Medical, Inc., Chevy Chase, MD; Sonosa Medical, Inc., Baltimore, MD; Spectral MD, Inc., Dallas, TX; TensionSquare LLC, Port Charlotte, FL; Terasaki Institute for Biomedical Innovation, Los Angeles, CA; The Mullings Group, Delray Beach, FL; TMG360 Media, Delray Beach, FL; Triple Ring Technologies, Newark, CA; TroutHouseTech LLC, Arlington, VA; University of Alaska Fairbanks, Fairbanks, AK; University of Notre Dame, Notre Dame, IN; UTL, Inc., Carlsbad, CA; Vadum, Inc., Raleigh, NC; Virion Therapeutics LLC, Newark, DE; have been added as parties to this venture.

Also, Abfero Pharmaceuticals, Inc., Boston, MA; Aerpio Pharmaceuticals, Cincinnati, OH; AirSupport LLC, Baltimore, MD; Alertgy, Inc., Melbourne, FL; Aptive Resources LLC, Alexandria, VA; Arteriocyte, Inc. dba Compass Biomedical, Hopkinton, MA; Ashvattha Therapeutics, Inc., Redwood City, CA; Asymmetric Technologies LLC, Columbus, OH; Bettermeant, Inc., Berkeley, CA; Boa Biomedical, Inc., Cambridge, MA; Board of Trustees of the Leland Stanford Junior University, Palo Alto, CA; Carnegie Mellon University, Pittsburg, PA; Celerens LLC, Clarksville, MD; Data Intelligence Technologies, Inc., Arlington, VA; DataRobot, Inc., Boston, MA; Dawson Technical, Inc., Irvine, CA; Diagnoss, Inc., Pomona, CA; Diomics Corp., Murrieta, CA; DocBox, Inc., Waltham, MA; Embody LLC, Norfolk, VA; Evidence Based Psychology LLC dba Susan David, Newton, MA; FirstString Research, Inc., Mt. Pleasant, SC; Five Vital Signs, Houston, TX; FloTBI, Inc., Cleveland, OH; Friedman Research Corp., Austin, TX; Full Spectrum Omega, Inc., Los Angeles, CA; Fusion Consulting, Inc., Farmers Branch, TX; General Biologics, Inc., Cambridge, MA; Global Institute of Stem Cell Therapy and Research, Inc., San Diego, CA; H&H Medical Corp., Williamsburg, VA; Healing Our Heroes Foundation dba The Mission After, Del Mar, CA; Hybrid Plastics, Inc., Hattiesburg, MS; Iacta Pharmaceuticals, Inc., Irvine, CA; Intelligent Automation, Inc., Rockville, MD; IRegained, Inc., Sudbury, CAN; KMASS Solutions, El Paso, TX; Kopis Mobile LLC, Flowood, MS; L-3 Applied Technologies, Inc., San Diego, CA; Levi Diagnostics, Inc., Fall River, MA; LexisNexis Risk Solutions, Inc., Washington, DC; Life365 Inc., Scottsdale, AZ; luxML LLC, San Antonio, TX; MadApparel Ind. dba Athos, Redwood City, CA; ManTech Advanced Systems International, Inc., Herndon, VA; Medical Center of the Americas Foundation, El Paso, TX; Medical Informatics Corp., Houston, TX; MEDX SpA, Región metropolitana, Santiago de Chile, CHL; Moleculin Biotech, Inc., Houston, TX; Movement Rx Physical Therapy, P.C., San Diego, CA; NanoOxygenic LLC, Dallas, TX; NeurAegis, Inc., Southborough, MA; Neuronasal, Inc., Wexford, PA; Nexsys Electronics Inc. dba Medweb, San Francisco, CA; Nostromo LLC, Kennebunk, ME; Novel Technologies Holdings Limited, Manchester, NH; Noveome Biotherapeutics, Inc., Pittsburg, PA; Obatala Sciences, Inc., New Orleans, LA; Odin Technologies, Charlotte, NC; OLGS, Inc., Imperial, PA; Oregon Health & Science University, Portland, OR; Osteal Therapeutics, Inc., San Clemente, CA; Overseas Strategic Consulting, Ltd, Philadelphia, PA; Oxygenium, Inc., Great Neck, NY; Panakeia LLC, Newport News, VA; PercuSense, Inc., Valencia, CA; Platelet BioGenesis, Inc., Cambridge, MA; Presidio Government Solutions LLC, Reston, VA; Programs Management Analytics & Technologies, Inc., Norfolk, VA; Q30 Sports Science LLC, Westport, CT; QuesGen Systems, Burlingame, CA; Renaissance Biotech LLC, Malibu, CA; Resolys Bio, Inc., Delanson, NY; ServiceNow, Inc., Vienna, VA; SpherIngenics, Inc., Richmond, VA; StataDX, Inc., Cambridge, MA; Synthesis Technologies, Inc., Pasadena, CA; Tanner Research, Inc., Duarte, CA; TeleCommunication Systems, Inc., Annapolis, MD; Through The Cords LLC, Salt Lake City, UT; Traumatic Direct Transfusion Devices LLC, Raleigh, NC; Tunnell Consulting, Inc., Bethesda, MD; University of Connecticut, Storrs, CT; University of Kansas Medical Center Research Institute, Inc., Kansas City, KS; ViiNetwork, Inc ViiMed, Washington, DC; Wearable Artificial Organs, Inc., Beverly Hills, CA; WearOptimo, Woolloongabba, Queensland, AUS; Western Michigan University Homer Stryker M.D. School of Medicine, Kalamazoo, MI; XSurgical, Inc., Ipswich, MA; Zansors LLC, Arlington, VA; have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on April 14, 2022. A notice was published in the Federal Register pursuant to Section 6(b) of the Act on May 13, 2022 (87 FR 29382).

Suzanne Morris,
Chief, Premerger and Division Statistics, Antitrust Division.

[FR Doc. 2022-19656 Filed 9-12-22; 8:45 am]

BILLING CODE P